DEPARTMENT OF HOMELAND SECURITY

[Docket ID FEMA-2010-0033]

Federal Emergency Management Agency

Agency Information Collection Activities: Submission for OMB Review; Comment Request, OMB No. 1660-0030; Request for the Site Inspection and Landowners Authorization/Ingress-Egress Agreement

AGENCY: Federal Emergency Management Agency, DHS.

ACTION: Notice; 30-day notice and request for comments; revision of a currently approved information collection; OMB No. 1660-0030; FEMA Form 010-0-09 (formerly 90-1), Request for the Site Inspection; FEMA Form 010-0-10 (formerly 90-31), Landowner's Authorization/Ingress-Egress Agreement.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before October 12, 2010.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or e-mail address FEMA-Information-Collections-Management@dhs.gov.

SUPPLEMENTARY INFORMATION:

Collection of Information

Title: Request for the Site Inspection, Landowners Authorization/Ingress-Egress Agreement.

Type of information collection: Revision of a currently approved information collection.

OMB Number: 1660-0030.

Form Titles and Numbers: FEMA Form 010-0-09 (formerly 90-1), Request for the Site Inspection; FEMA Form 010-0-10 (formerly 90-31), Landowner's Authorization/Ingress-Egress Agreement.

Abstract: FEMA's temporary housing assistance provides temporary housing to eligible applicants and survivors of federally declared disasters. This information is required to determine that the infrastructure of the site supports the installation of the unit. This collection also obtains permission for the unit to be placed on the property, and the property owner certifies that they will not have a lien placed against the unit for their own debts and will maintain the property so that FEMA can remove the unit when required.

Affected Public: Individuals or households.

Estimated Number of Respondents: 5,000.

Frequency of Response: On Occasion.

Estimated Average Hour Burden per Respondent: .34 Hour.

Estimated Total Annual Burden Hours: 1,700 Hours.

Estimated Cost: There are no annual capital, start-up, maintenance or operation costs associated with this collection.

Dated: September 3, 2010.
Lesia Banks,
Director, Records Management Division, Mission Support Bureau, Federal Emergency Management Agency, Department of Homeland Security.

[FR Doc. 2010-22582 Filed 9-9-10; 8:45 am]

BILLING CODE 9110-10-P